DEPARTMENT OF EDUCATION

34 CFR Parts 300 and 303

Office of Special Education and Rehabilitative Services; Notice of Request for Comments and Recommendations on Regulatory Issues Under the Individuals With Disabilities Education Act (IDEA), as Amended by the Individuals With Disabilities Education Improvement Act of 2004

AGENCY: Department of Education.

ACTION: Correction.

SUMMARY: On December 29, 2004, the Secretary of Education solicited comments and recommendations from the public prior to developing and publishing proposed regulations under 34 CFR parts 300 and 303 to implement programs under the recently amended IDEA (69 FR 77968). The Secretary also announced plans to hold informal public meetings to seek further input about those regulations in light of the statutory amendments. Under SUPPLEMENTARY INFORMATION on page 77969, in the Announcement of Public Meetings section, the second location listed for one of the informal public meetings is incorrect. The document lists the second location as “Newark, NJ”. This document corrects the location to read: “Newark, DE”.

FOR FURTHER INFORMATION CONTACT: Troy R. Justesen, U.S. Department of Education, 400 Maryland Avenue, SW., Room 5138, Potomac Center Plaza, Washington, DC 20202. Telephone: (202) 245-7468 or by e-mail: troy.justesen@ed.gov.

If you use a telecommunications device for the deaf (TDD), you may call the Federal Relay Service (FRS) at 1-800-877-8339.

Individuals with disabilities may obtain this document in an alternative format (e.g., Braille, large print, audiotape, or computer diskette) on request to the program contact person listed in this section.

SUPPLEMENTARY INFORMATION: Electronic Access to This Document: You may view this document, as well as all other documents of this Department published in the Federal Register, in text or Abobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Correction

In FR Doc. 04-28503 which published in the Proposed Rules section, beginning on page 77968 in the issue of December 29, 2004, make the following correction in the SUPPLEMENTARY INFORMATION section. On page 77969, in the second column, under “Announcement of Public Meetings” correct the second location “Newark, NJ” to read “Newark, DE”.

Dated: January 5, 2005.
John H. Hager,
Assistant Secretary for Special Education and Rehabilitative Services.

[FR Doc. 05-446 Filed 1-7-05; 8:45 am]

BILLING CODE 4000-01-P